SMALL BUSINESS ADMINISTRATION

Reporting and Recordkeeping Requirements Under OMB Review

AGENCY: Small Business Administration.

ACTION: Notice of 30 day Reporting Requirements Submitted for OMB Review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before December 2, 2013. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Curtis Rich, Small Business Administration, 409 3rd Street SW., 5th Floor, Washington, DC 20416; and OMB Reviewer, Office of Information and Regulatory Affairs, Office of Management and Budget, New Executive Office Building, Washington, DC 20503.

FOR FURTHER INFORMATION CONTACT: Curtis Rich, Agency Clearance Officer, (202) 205-7030 curtis.rich@sba.gov.

Abstract: Government wide requirements in the annual appropriations act, as well as OMB Circular A 123 Appendix B. require agencies to conduct an alternative credit worthiness assessment when the credit score inquiry results in no score. This information of collection will be used as a means of making that alternative.

SUPPLEMENTARY INFORMATION: Title: Alternate Creditworthiness Assessment.

Frequency: On Occasion.

SBA Form Number: 2294.

Description of Respondents: Requesting alternative credit worthiness.

Responses: 10.

Annual Burden: 2.

Curtis Rich,
Management Analyst.

[FR Doc. 2013-26044 Filed 10-31-13; 8:45 am]

BILLING CODE P